ENVIRONMENTAL PROTECTION AGENCY

40 CFR Part 52

[CA 295-0441w; FRL-7787-2]

Withdrawal of Direct Final Rule Revising the California State Implementation Plan, Great Basin Unified Air Pollution Control District and Ventura County Air Pollution Control District

AGENCY: Environmental Protection Agency (EPA).

ACTION: Withdrawal of direct final rule.

SUMMARY: On June 7, 2004 (69 FR 31739), EPA published a direct final approval of revisions to the California State Implementation Plan (SIP). These revisions concerned GBUAPCD Rule 406, Open Outdoor Fires, GBUAPCD Rule 407, Incinerator Burning, and Ventura County Rule 56, Open Burning. The direct final action was published without prior proposal because EPA anticipated no adverse comment. The direct final rule stated that if adverse comments were received by July 7, 2004, EPA would publish a timely withdrawal in the Federal Register. EPA received a timely adverse comment and is, therefore, withdrawing the direct final approval. EPA will address the comment in a subsequent final action based on the parallel proposal also published on June 7, 2004 (69 FR 31782). As stated in the parallel proposal, EPA will not institute a second comment period on this action. Accordingly, the revision to 40 CFR 52.220, published in the Federal Register on June 7, 2004 (69 FR 31739), which was to become effective on August 6, 2004, is withdrawn.

DATES: The direct final rule published on June 7, 2004, at 69 FR 31739, is withdrawn as of July 15, 2004.

FOR FURTHER INFORMATION CONTACT: Al Petersen, Rulemaking Office (AIR-4), U.S. Environmental Protection Agency, Region IX, (415) 947-4118, petersen.alfred@epa.gov.

List of Subjects in 40 CFR Part 52

Environmental protection, Air pollution control, Incorporation by reference, Intergovernmental relations, Particulate matter, Reporting and recordkeeping requirements.

Dated: June 21, 2004.
Wayne Nastri,
Regional Administrator, Region IX.

Accordingly, the amendment to 40 CFR 52.220, published in the Federal Register on June 7, 2004 (69 FR 31739), which was to become effective on August 6, 2004, is withdrawn.

[FR Doc. 04-15941 Filed 7-14-04; 8:45 am]

BILLING CODE 6560-50-P